DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportations Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 23, 2009.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on October 7, 2009.
Delmer F. Billings,
Director, Office of Hazardous Materials, Special Permits and Approvals.

New Special Permits
Application No. | Docket No. | Applicant | Regulations(s) affected | Nature of special permits thereof
14910-N |  | Drug & Laboratory Disposal, Inc., Plainwell, MI | 49 CFR 178.503 | To authorize the transportation in commerce of UN 1H2 plastic drums that are intended to be non-reusable as the outer packaging for lab packs. (modes 1, 2, 3)
14911-N |  | ITW Sexton, Decatur, AL | 49 CFR 173.304a | To authorize the manufacture, marking and sale of a non-DOT specification cylinder to be used for the transportation in commerce of certain Division 2.2 materials. (modes 1, 2, 3, 4)
14912-N |  | ITW Sexton, Decatur, AL | 49 CFR 173.304a and 173.3 06(a)(3)(ii) | To authorize the manufacture, marking and sale of a non-DOT specification container to be used for the transportation in commerce of certain Division 2.2 materials. (modes 1, 2, 3, 4)
14913-N |  | Air Products and Chemicals, Inc., Allentown, PA | 49 CFR 171.23(a)(3) | To authorize the one-time transportation in commerce of 115 non-DOT specification cylinders containing arsine and arsine mixtures by dedicated motor vehicle. (mode 1)
14914-N |  | The Boeing Company, St. Louis, MO | 49 CFR 173.62 | To authorize the transportation in commerce of a T-45 canopy containing a Division 1.4S explosive in alternative packaging. (mode 1)
14915-N |  | Schering-Plough, Summit, NJ | 49 CFR 172.200, 172.300, 172.400 and 172.500 | To authorize the one-time, one-way transportation in commerce of a finished product from its primary production building to another location to complete product filling, packaging and shipping without shipping papers, marking, labeling or placarding. (mode 1)
14916-N |  | Air Products and Chemicals, Inc., Allentown, PA | 49 CFR 173.240 | To authorize the transportation in commerce of an assembled electrolytic cell containing corrosive solids, toxic, n.o.s. in alternative packaging. (modes 1, 3)
14917-N |  | DSE Fuzing LLC, Orlando, FL | 49 CFR 177.848(f) | To authorize the transportation in commerce of certain explosives by motor vehicle with alternative segregation. (mode 1)
14918-N |  | Aviall Services, Inc., Van Nuys, CA | 49 CFR 173.159(f) and Packing Instruction 806 of ICAO | To authorize the transportation in commerce of nickle cadmium aircraft batteries UN2795 as non-spillable batteries when in specially designed packagings. (modes 1, 4, 5)
14919-N |  | TK Holdings Inc., Armada, MI | 49 CFR 173.301(a) and 173.302a | To authorize the manufacture, marking, sale and use of non-DOT specification cylinders for use in automobile safety systems. (modes 1, 2, 3, 4)
14920-N |  | Dapco Industries, Inc., Ridgefield, CT | 49 CFR 173.302a, 180.205, and 180.209 | To authorize the transportation in commerce of certain cylinders that have tested using ultrasonic examinations with visual external examination in lieu of hydrostatic testing and internal visual inspection. (modes 1, 2, 3, 4, 5)
14924-N |  | Explosive Service International Ltd., Baton Rouge, LA | 49 CFR 176.144(e), 176.145(b), 176.137(b)(7), 176.63(e), 176.83 and 176.138(b) | To authorize the transportation in commerce of certain Division 1.1D and 1.4B explosives by vessel in an alternative stowage configuration. (mode 3)

[FR Doc. E9-25277 Filed 10-21-09; 8:45 am]

BILLING CODE 4909-60-M